DEPARTMENT OF COMMERCE

Submission for OMB Review; Comment Request

The Department of Commerce (DOC) has submitted to the Office of Management and Budget (OMB) for clearance the following proposal for collection of information under the provisions of the Paperwork Reduction Act (44 U.S.C. Chapter 35).

Agency: Bureau of Economic Analysis (BEA), Commerce.

Title: Survey of Foreign Airline Operators' Revenues and Expenses in the United States.

Form Number(s): BE-9.

Agency Approval Number: 0608-0068.

Type of Request: Extension of a currently approved collection.

Burden: 1,920 hours.

Number of Respondents: 60 per quarter; 240 annually.

Average Hours Per Response: 8 hours.

Needs and Uses: The Bureau of Economic Analysis (BEA) is responsible for the compilation of the U.S. international transactions accounts (ITA), which it publishes quarterly in news releases, on its Web site, and in its monthly journal, the Survey of Current Business. These accounts provide a statistical summary of all U.S. international transactions and, as such, are one of the major statistical products of BEA. They are used extensively by both government and private organizations for national and international economic policy formulation and for analytical purposes. The information collected in this survey is used to develop the “transportation” portion of the ITA. Without this information, an integral component of the ITA would be omitted. No other Government agency collects comprehensive quarterly data on foreign airline operators' revenues and expenses in the United States.

The survey requests information from U.S. agents of foreign air carriers operating in the United States. The information is collected on a quarterly basis from foreign air carriers with annual total covered revenues or annual total covered expenses incurred in the United States of $5,000,000 or more. Foreign air carriers with annual total covered revenues and annual total covered expenses each below $5,000,000 are exempt from reporting.

Affected Public: U.S. agents of foreign air carriers.

Frequency: Quarterly.

Respondent's Obligation: Mandatory.

Legal Authority: The International Investment and Trade in Services Survey Act, 22 U.S.C. 3101-3108, as amended.

OMB Desk Officer: Paul Bugg, (202) 395-3093.

You may obtain copies of the above information collection proposal by writing Diana Hynek, Departmental Paperwork Clearance Officer, Office of the Chief Information Officer, Department of Commerce, Room 6625, 14th and Constitution Avenue, NW., Washington, DC 20230, or via e-mail at dhynek@doc.gov.

Send written comments on the proposed information collection within 30 days of publication of this notice to the Office of Management and Budget, O.I.R.A., Attention PRA Desk Officer for BEA, via e-mail at pbugg@omb.eop.gov, or by FAX at 202-395-7245.

Dated: July 20, 2006.
Madeleine Clayton,
Management Analyst, Office of Chief Information Officer.

[FR Doc. E6-11814 Filed 7-24-06; 8:45 am]

BILLING CODE 3510-06-P